DEPARTMENT OF HOUSING AND URBAN DEVELOPMENT

[Docket No. FR-5376-N-01]

Affirmative Fair Housing, Marketing (AFHM) Plan-Multifamily Housing, Affirmative Fair Housing Marketing (AFHM) Plan-Single Family Housing and Affirmative Fair Housing Marketing (AFHM) Plan-Cooperatives/Condominiums

AGENCY: Office of the Chief Information Officer, HUD.

ACTION: Notice.

SUMMARY: The proposed information collection requirement described below has been submitted to the Office of Management and Budget (OMB) for review, as required by the Paperwork Reduction Act. The Department is soliciting public comments on the subject proposal.

Developers of new MFH projects, single-family housing with HUD mortgage insurance, and condominium and cooperative housing with HUD mortgage insurance, will use these forms to describe their intent for marketing to ensure that they meet the Fair Housing guidelines concerning the manner in which their units are marketed to the public. In addition, owners and managers of MFH developments must update their AFHMP whenever justified by changing conditions and/or review the Form for needed updates at least every five years. The MFH Form is totally revised in order to provide clarity to MFH developers regarding their responsibilities. Minor edits and revisions were made to the Single Family Housing and Condominium/Cooperative Housing forms to provide greater clarity to the respondents.

DATES: Comments Due Date: February 25, 2010.

ADDRESSES: Interested persons are invited to submit comments regarding this proposal. Comments should refer to the proposal by name and/or OMB approval Number (2529-0013) and should be sent to: HUD Desk Officer, Office of Management and Budget, New Executive Office Building, Washington, DC 20503; fax: 202-395-5806.

FOR FURTHER INFORMATION CONTACT: Leroy McKinney Jr., Reports Management Officer, QDAM, Department of Housing and Urban Development, 451 Seventh Street, SW., Washington, DC 20410; e-mail Leroy McKinney Jr. at Leroy.McKinneyJr@hud.gov or telephone (202) 402-5564. This is not a toll-free number. Copies of available documents submitted to OMB may be obtained from Mr. McKinney.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Affirmative Fair Housing, Marketing (AFHM) Plan-MultifamilyHousing, Affirmative Fair Housing Marketing (AFHM) Plan-Single Family Housing andAffirmative Fair Housing Marketing (AFHM) Plan-Cooperatives/Condominiums.

OMB Approval Number: 2529-0013.

Form Numbers: HUD-935.2A, 935.2B and 935.2C.

Description of the Need for the Information and its Proposed Use: Developers of new MFH projects, single-family housing with HUD mortgage insurance, and condominium and cooperative housing with HUD mortgage insurance, will use these forms to describe their intent for marketing to ensure that they meet the Fair Housing guidelines concerning the manner in which their units are marketed to the public. In addition, owners and managers of MFH developments must update their AFHMP whenever justified by changing conditions and/or review the Form for needed updates at least every five years. The MFH Form is totally revised in order to provide clarity to MFH developers regarding their responsibilities. Minor edits and revisions were made to the Single Family Housing and Condominium/Cooperative Housing forms to provide greater clarity to the respondents.

Frequency of Submission: Other, Initial application, as needed but a minimum of every five years for MFH Form.

| Number of respondents | × | Annual responses | × | Hours per response | = | Burden hours
Reporting Burden | 8,080 |  | 1.85 |  | 0.170 |  | 25,540

Total Estimated Burden Hours: 25,540.

Status: Revision of a currently approved collection.

Authority: Section 3507 of the Paperwork Reduction Act of 1995, 44 U.S.C. 35, as amended.

Dated: January 19, 2010.
Leroy McKinney, Jr.,
Departmental Reports Management Officer, Office of the Chief Information Officer.

[FR Doc. 2010-1423 Filed 1-25-10; 8:45 am]

BILLING CODE 4210-67-P